DEPARTMENT OF THE TREASURY

Office of Thrift Supervision

Branch Offices

AGENCY: Office of Thrift Supervision (OTS), Treasury.

ACTION: Notice and request for comment.

SUMMARY: The proposed information collection request (ICR) described below has been submitted to the Office of Management and Budget (OMB) for review and approval, as required by the Paperwork Reduction Act of 1995. OTS is soliciting public comments on the proposal.

DATES: Submit written comments on or before May 27, 2008. A copy of this ICR, with applicable supporting documentation, can be obtained from RegInfo.gov at http://www.reginfo.gov/public/do/PRAMain.

ADDRESSES: Send comments, referring to the collection by title of the proposal or by OMB approval number, to OMB and OTS at these addresses: Office of Information and Regulatory Affairs, Attention: Desk Officer for OTS, U.S. Office of Management and Budget, 725 17th Street, NW., Room 10235, Washington, DC 20503, or by fax to (202) 395-6974; and Information Collection Comments, Chief Counsel's Office, Office of Thrift Supervision, 1700 G Street, NW., Washington, DC 20552, by fax to (202) 906-6518, or by e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: For further information or to obtain a copy of the submission to OMB, please contact Ira L. Mills at, ira.mills@ots.treas.gov, (202) 906-6531, or facsimile number (202) 906-6518, Regulations and Litigation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: Branch Offices.

OMB Number: 1550-0006.

Form Numbers: 1450 and 1558.

Description: Pursuant to 12 CFR 545.93, a Federal savings association must file an application or notice and receive OTS approval or non-objection under § 545.95 before the applicant can change the permanent location of, or establish a new, home or branch office, except as provided in this section. Pursuant to 12 CFR 545.95, applications and notices under § 545.93 are subject to expedited or standard treatment under the application processing procedures at part 516 of this chapter.

Such applications or notices must be in a form prescribed by OTS. OTS's Applications for Permission to Establish a Branch Office and Change of Location of an Office are designed to provide the minimum amount of information necessary to determine whether the request meets OTS's criteria for approval of these activities.

Pursuant to 12 CFR 516.80, the applicant must publish a notice in a newspaper printed in the English language. If the OTS determines that the primary language of a significant number of adult residents of the community is a language other than English, the OTS may require that the applicant simultaneously publish additional notice(s) in the community in the appropriate language.

Section 228 of the Federal Deposit Insurance Corporation Improvement Act of 1991 requires each insured depository institution to give 90 days prior written notice of any branch closing to its primary federal regulator and to branch customers. The notice to the regulator must include a detailed statement of the reasons for the decision to close the branch and information in support of those reasons.

Type of Review: Extension of a currently approved collection.

Affected Public: Business or other for-profit.

Estimated Number of Respondents: 584.

Estimated Number of Responses: 584.

Estimated Burden Hours per Response: 1 hour and 29 minutes for the application; 1 hour for Third Party Disclosure; and 10 minutes for a change application.

Estimated Frequency of Response: Other; Prior to branching activity.

Estimated Total Burden: 611 hours.

Clearance Officer: Ira L. Mills, (202) 906-6531, Office of Thrift Supervision, 1700 G Street, NW., Washington, DC 20552.

Dated: April 21, 2008.
Deborah Dakin,
Senior Deputy Chief Counsel, Regulations and Legislation Division.

[FR Doc. E8-9078 Filed 4-24-08; 8:45 am]

BILLING CODE 6720-01-P